DEPARTMENT OF LABOR

Mine Safety and Health Administration

30 CFR Parts 48 and 75

RIN 1219-A33

Emergency Temporary Standard; Correction

AGENCY: Mine Safety and Health Administration (MSHA), Labor.

ACTION: Emergency Temporary Standard; correction.

SUMMARY: This document corrects errors that appeared in MSHA's preamble for Emergency Evacuations; Emergency Final Rule.

EFFECTIVE DATE: December 26, 2002.

FOR FURTHER INFORMATION CONTACT: Marvin W. Nichols, Jr., Director, Office of Standards, Regulations, and Variances, MSHA, (202) 693-9440.

SUPPLEMENTARY INFORMATION: On December 12, 2002, we (MSHA) published in the Federal Register (67 FR 76658) an Emergency Temporary Standard on Emergency Evacuations. In a separate document, the Office of the Federal Register has corrected a printing error in the regulatory text: On p. 76665, third column, next to last line of the last paragraph, the Federal Register has corrected “(a)(1)” to read “(a)(1) through (4)”. The preamble contained errors; therefore, we are correcting the preamble to the rule as follows:

1. On p. 76659, third column, last line, change “determined” to “concluded”.

2. On p. 76660, first column, 17th & 18th lines, correct “report concluded” to read “team also determined”.

3. On p. 76662, first column, 8th line in second full paragraph beginning with “Because”, correct “(a)(1) through (3)” to read “(a)(1)(i) through (iii)”.

Dated: December 19, 2002.
John R. Caylor,
Deputy Assistant Secretary of Labor for Mine Safety and Health.

[FR Doc. 02-32583 Filed 12-24-02; 8:45 am]

BILLING CODE 4510-43-P